DEPARTMENT OF HEALTH AND HUMAN SERVICES

Office of Inspector General

Program Exclusions: January 2000

AGENCY: Office of Inspector General, HHS.

ACTION: Notice of program exclusions.

During the month of January 2000, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
ANDERSON, DANIEL HENRY | 02/20/00
LEAWOOD, KS
ANELLO, ANDREW | 02/20/00
FLORAL PARK, NY
ATKINSON, ROBERT W | 08/18/99
BREA, CA
BRITO, MARIANELA | 02/20/00
MIAMI, FL
DUCRO, THOMAS A | 02/20/00
BREWSTER, MA
EL-ATTAR, MOHAMED A | 02/20/00
SOUTHFIELD, MI
HUTTO, DAVID | 02/20/00
TUCKER, GA
JAIN, SWARAN K | 02/20/00
LANSING, KS
LAHUE, RONALD H | 02/20/00
LEAWOOD, KS
LAHUE, ROBERT C | 02/20/00
STILWELL, KS
LUTHER, CHARLES | 02/20/00
EDWARDSVILLE, IL
MCQUEEN, VELDA LYNN | 02/20/00
VICTORVILLE, CA
PAYETTE, TAMMY LEE | 02/20/00
PASADENA, CA
PERKINS, CASSANDRA PAULA | 02/20/00
LOS ANGELES, CA
PICARD, PAUL D | 02/20/00
MELBOURNE, FL
SANTER, MARJORIE ANN | 02/20/00
FRESNO, CA
SAUCIER, BILLY | 02/20/00
GRANADA HILLS, CA
SINGH, TARVINDER | 02/20/00
YUBA CITY, CA
TARASSOUM, MARY R | 02/20/00
STONE MOUNTAIN, GA
TIPPETT, PAUL WINSTON | 02/20/00
VIDALIA, GA
TORRETTI, MICHAEL C | 02/20/00
RAMONA, CA
WALLO, GARY J JR | 02/20/00
WHITE LAKE, MI
WHITEBLOOM, GREGORY | 11/09/99
CRETE, IL
FELONY CONVICTION FOR HEALTH CARE FRAUD
DRASIN, MARTIN | 02/20/00
MERRICK, NY
HUSSAIN, CHAUDHRY | 02/20/00
WHITESTONE, NY
FELONY CONTROL SUBSTANCE CONVICTION
D'MORIAS, JEREMY L | 02/20/00
FRESNO, CA
FRANCIS, WILLIAM J | 02/20/00
SPRING LAKE, MI
LITTERELL, LINDA SUE | 02/20/00
JENNINGS, OK
NIGALYE, BALKRISHNA | 02/20/00
ALBERTSON, NY
RALLS, TEENA SHEREEN | 02/20/00
ANNA, IL
PATIENT ABUSE/NEGLECT CONVICTIONS
ANDERSON, WILFRED LOUIS | 02/20/00
CLEVELAND, OH
BARRERE, SHARON | 02/20/00
EKALAKA, MT
BEATTY, LINDA | 02/20/00
CALVERSTON, NY
BRONSON, CYNTHIA L | 02/20/00
CORNING, NY
CALDWELL, LUCIANA | 02/20/00
NEWBERRY, SC
DOM, KOLLARY LYNDA | 02/20/00
CANYON, TX
HEYWARD, JAMES | 02/20/00
SYRACUSE, NY
HILL, BRETT C | 02/20/00
HORSEHEADS, NY
KRUGLICK, LEWIS JOHN | 02/20/00
SALINAS, CA
LOMELLI, SALLY NAVARETTE | 02/20/00
PORTERVILLE, CA
MENAFO, CARMINE | 02/20/00
HONOLULU, HI
MENDENHALL, LUCY | 02/20/00
LUDLOW, MA
PANICK, TAMERA JEAN | 02/20/00
GUTHRIE, OK
PASCO, CHARITY R | 02/20/00
TEMPLE TERRACE, FL
PERRY, ROSA LEE | 02/20/00
AKANSAS CITY, KS
PICKENS, DIANA JAN | 02/20/00
TUCSON, AZ
SIGNOR, LINDA M | 02/20/00
HUDSON FALLS, NY
SIMIEN, VICKIE D | 02/20/00
LAKE CHARLES, LA
WEST, CARY EUGENE | 02/20/00
GILBERT, AR
WILLIAMS, GARY | 02/20/00
CANTON, MS
CONVICTION FOR HEALTH CARE FRAUD
GARZA, TIFFANY | 02/20/00
WICHITA, KS
CONVICTION_OBSTRUCTION OF AN INVESTIGATION
EASLEY, MOLLY | 02/20/00
TUCKERMAN, AR
KONTOS, DIMITRIOS | 02/20/00
ENGLEWOOD, NJ
LICENSE REVOCATION/SUSPENSION/SURRENDERED
ABRAM, SALLY K | 02/20/00
HOPKINS, MN
ACKLEY, JANINE M | 02/20/00
FARMINGDALE, NY
ALFARO, LINDA M | 02/20/00
ST PAUL, MN
ALTMAN, ROBERT MICHAEL | 02/20/00
ALEXANDRIA, VA
ARMENT, PENNY S | 02/20/00
GREEN ROCK, IL
BALCH, GWYN | 02/20/00
WAITSFIELD, VT
BARNETTE, SALLY C | 02/20/00
FAIR OAKS, CA
BEACHLER, EMILYN GREER | 02/20/00
REFORM, AL
BEHR, LAURA DIANE MINOR | 02/20/00
MUSCLE SHOALS, AL
BENFATTO, FRANK JR | 02/20/00
OXNARD, CA
BENISCHECK, LAURA L | 02/20/00
PHILADELPHIA, PA
BOISROND, MARTINE C | 02/20/00
ELMONT, NY
BRACKET, ANGELIA DENISE | 02/20/00
BOAZ, AL
BRYSON, CECELIA ANN | 02/20/00
ROSSVILLE, GA
CAMPBELL, RITA CULLIFER | 02/20/00
SLOCUMB, AL
CASTANERA, PAMELA | 02/20/00
ST HELENA, CA
CLOUSE, ROBIN LEIGHNAY | 02/20/00
HUNTSVILLE, AL
COCHRAN, PAMELA R | 02/20/00
DES MOINES, IA
COLE, LENA RUTH | 02/20/00
FLORENCE, AL
COLLINS, KAREN L | 02/20/00
MULKEYTOWN, IL
CZAJKOWSKI, DENIS P | 02/20/00
COLLEGEVILLE, PA
DAVIS, KRISTIN J | 02/20/00
STEWARTVILLE, MN
DAVIS, ELIZABETH J | 02/20/00
HASTINGS, MN
DELOUGHERY, GRACE L | 02/20/00
LA CRESCENT, MN
DONALDSON, KATHLEEN L | 02/20/00
ST CLOUD, MN
DUDLEY, BETTE E | 02/20/00
BINGHAMTON, NY
ENGLE, JOSEPH D | 02/20/00
READING, PA
FEMLING, CINDY L | 02/20/00
DENT, MN
FIDDERMON, MARYLN | 02/20/00
UPPER MARLBORO, MD
FINLEY, SEAN MICHAEL | 02/20/00
LARGO, FL
FRANKOVICH, LORA L | 02/20/00
RICHMOND, VA
FRESE, JAMES LYLE | 02/20/00
CHULA VISTA, CA
GOLPHENEE, MALINDA D | 02/20/00
RIFLE, CO
GORMLEY, CATHERINE E | 02/20/00
NEWTON, MA
HAALAND, MELODY R | 02/20/00
GARY, MN
HANSON, CAROL L | 02/20/00
DENVER, CO
HASSON, BRIDGET T | 02/20/00
PHILADELPHIA, PA
HAYES, LORI CAROL | 02/20/00
HUNTINGTON BEACH, CA
HEINZ, LINDA B | 02/20/00
ORWELL, VT
HENSON, BELINDA MOORE | 02/20/00
HARPERSVILLE, AL
HIATT, MARIE E | 02/20/00
MARSHALL, IL
HODGES, RAMONA JOY | 02/20/00
OMAHA, TX
HOFF, KAREN D | 02/20/00
AKELEY, MN
HOLLAND, CECIL J | 02/20/00
NEW BRAUNFELS, TX
HOLT, ANGELA D | 02/20/00
DETROIT LAKES, MN
HOWARD, EDWARD LEE | 02/20/00
BIRMINGHAM, AL
JORENBY, NITA JO | 02/20/00
BESSEMER, AL
KENT, ETTA DAVIS LOVE | 02/20/00
JACKSONVILLE, TN
KIM, YOUNG I | 02/20/00
SAYVILLE, NY
KINTOP, CRISTY J | 02/20/00
BRAINERD, MN
LAYNE, CHESTER L | 02/20/00
SPRINGFIELD, IL
LEE, JAMES H | 02/20/00
BRIDGEVIEW, IL
LEVITT, WILLIAM LAWRENCE | 02/20/00
DANVILLE, CA
LINSE-ZURIO, MARYBETH T | 02/20/00
CRYSTAL LAKE, IL
LOPEZ, CLYDE EDGAR | 02/20/00
SANTA MARGARITA, CA
LUELLEN, VELMA | 02/20/00
COLORADO SPRNGS, CO
MALLINGA, STEPHEN O | 02/20/00
UGANDA, E AFRICA,
MAYER, GABRIEL | 02/20/00
MAITLAND, FL
MELVIN, PHYLLIS FAYE | 02/20/00
HARVEST, AL
MICKELSON, SHARRON A | 02/20/00
THORNTON, CO
MORROW, SONIA KAY | 02/20/00
DELTA, AL
MOSELEY, FLORENCE ALISIA | 02/20/00
MERIDIAN, MS
MURDOCK, LINDA M | 02/20/00
BENNINGTON, VT
MURO, PHYLLIS D | 02/20/00
ROSEVILLE, MI
NAVES, VICKIE LYNNE | 02/20/00
ATHENS, AL
OLSON, SHEILA K. | 02/20/00
NELSON, MN
ORTIZ, ARMANDO L | 02/20/00
SYKESVILLE, MD
PAGETT, LINDA MARIE | 02/20/00
VENICE, FL
PANTAZI, BETH L | 02/20/00
NORFOLK, MA
PEEBLES, PATRICIA ANN | 02/20/00
JACKSON, MS
PETERSON, CHARLES A | 02/20/00
SAN LEANDRO, CA
PETERSON, MICHELE J | 02/20/00
SUPERIOR, WI
PRINCE, JENNIE V | 02/20/00
PIPESTONE, MN
PUPECK, MARIA C | 02/20/00
LEBANON, PA
PURVIANCE, RICHARD B | 02/20/00
STREATOR, IL
QUAREQUIO, FRANCESCO | 02/20/00
WIDEN, WV
RAMIREZ, EDUARDO L | 02/20/00
STONE PARK, IL
RATCLIFFE, JENNIE R | 02/20/00
TRUMAN, MN
REID, DARCY D | 02/20/00
CHISAGO CITY, MN
ROBINSON, JASPER JR | 02/20/00
HOMEWOOD, IL
ROMANICK, MICHAEL ROBERT | 02/20/00
LAKEWOOD, CA
ROMERO, JOSE E | 02/20/00
MIAMI, FL
RYAN, JENNIFER LYNN | 02/20/00
BIRMINGHAM, AL
RYHTI, CAROLYNN D | 02/20/00
MOUNDSVIEW, MN
SANBERG, JOHN CARTER | 02/20/00
TULSA, OK
SATHER, JAY E L | 02/20/00
PLYMOUTH, MN
SCHAAR, SHEILA E | 02/20/00
DEER RIVER, MN
SCHAFFNER, DEBRA KLOSTERMAN | 02/20/00
PITTSBURGH, PA
SCHIELD, SIGNE | 02/20/00
MINNEAPOLIS, MN
SERENA, TERESA B | 02/20/00
MADISON, AL
SHEEHY, MARGARET ANNE | 02/20/00
OLEAN, NY
SHULTZ, PAMELA J | 02/20/00
APPLE VALLEY, MN
SIMMONS, JEAN S | 02/20/00
RAINBOW CITY, AL
SINNETT, COVA SHANNON | 02/20/00
SYLACAUGA, AL
SMITH, ANDREW JACKSON | 02/20/00
BAYOU LA BATRE, AL
SMITH, PHYLLIS RUTH | 02/20/00
SCOTTSBORO, AL
SMITH, CARRIE L | 02/20/00
DULUTH, MN
SOLDANI, MARY E | 02/20/00
MEMPHIS, TN
SPIVEY, SUSAN MARIE | 02/20/00
BEACH PARK, IL
STEINBERG, ROXANNE M | 02/20/00
COLUMBIA HGTS, MN
STIRDIVANT, AMY | 02/20/00
GRAND RAPIDS, MI
STREIT, ROGER CRAIG | 02/20/00
SAN ANTONIO, TX
STROM, KARLA A | 02/20/00
CEDAR RAPIDS, IA
SVIOKLA, SYLVESTER CHARLES | 02/20/00
LA JOLLA, CA
SWINDLE SCOTT, CHERYL ANNE | 02/20/00
EMMETT, ID
TANG, DONNA J | 02/20/00
ROMEOVILLE, IL
THEIN, SUSAN M | 02/20/00
ANDOVER, MN
THOMPSON, MELISSA HALL | 02/20/00
STARKVILLE, MS
TRUONG, DANH CONG | 02/20/00
GARDEN GROVE, CA
VAN WAGNER, KATHLEEN MARGARET | 02/20/00
SCHENECTADY, NY
WALKER, ROGER C | 02/20/00
KENMORE, NY
WALLACE, BARBARA ELAINE | 02/20/00
LUFKIN, TX
WARK, ELLEN ADAMS | 02/20/00
HANOVER, PA
WECKESSER, HENRY | 02/20/00
LONGMONT, CO
WEGSCHEID, ODELIA E | 02/20/00
CHAMPLIN, MN
WEISS, LOIS C | 02/20/00
FOSSTON, MN
WEST, ANGELA KAY | 02/20/00
LANETT, AL
WHITEHEAD, TANYA | 02/20/00
CHEYENNE, WY
YOUNG, ARTHUR D | 02/20/00
MONTCLAIR, CA
FEDERAL/STATE EXCLUSION/SUSPENSION
GOPAL, RAM | 02/20/00
SKOKIE, IL
LUANGKESORN, PRASERT | 02/20/00
MORTON GROVE, IL
MIGALE, SIMON | 02/20/00
JOLIET, IL
SONG, YOU SOOL | 02/20/00
WATESKA, IL
VEGA, HATUEY M | 02/20/00
CHICAGO, IL
FRAUD/KICKBACKS
JENKINS, JAMES T | 02/20/00
CHRISTOPHER, IL
LEON SCD UNLIMITED | 02/05/98
VINELAND, NJ
MKM NURSING HOME SPECIALITIES | 01/31/00
TREVEOSE, PA
OWNED/CONTROLLED BY CONVICTED/EXCLUDED
CHOICE MANAGEMENT SERVICES INC | 02/20/00
LECANTO, FL
PAUL PICARD, INC | 02/20/00
MELBOURNE, FL
THE RECOVERY SOURCE UNLIMITED | 02/20/00
MELBOURNE, FL
DEFAULT ON HEAL LOAN
BOHNKER, CRAIG R | 02/20/00
STORY CITY, IA
BROWN, KURT T | 02/20/00
GRAHAM, TX
CLARK, RICHARD D | 02/20/00
SAN DIEGO, CA
COFFMAN, RICHARD D | 02/20/00
GRANITE, OK
COLE, DOUGLAS R | 02/20/00
WOODLANDHILLS, CA
COLE, RANDAL W | 02/20/00
HULL, MA
COOMBS, TIMOTHY R | 02/20/00
ANAHEIM, CA
CRUMBLEY, WILLIAM R | 02/20/00
REDINGTON SHORES, FL
DE FAZIO-MATHEWS, DANIEL | 02/20/00
BRONX, NY
DIAZ, RUBEN D | 02/20/00
FLUSHING, NY
DUEY, KENNETH A | 02/20/00
LANSING, IL
EASLEY, WILLIAM W | 02/20/00
HILLSBORO, OH
EPARD, DEBRA A | 02/20/00
SILVER SPRING, MD
FERRIS, JEFFREY D | 02/20/00
CARSON CITY, NV
GIFFORD, CRAIG P | 12/28/99
SALT LAKE CITY, UT
GOMEZ, MENELEO P | 02/20/00
GLENDALE, CA
GONZALEZ, MARIA E | 02/20/00
E ROCKAWAY, NY
GROISMAN, LEONID | 02/20/00
BROOKLYN, NY
HOLLOWAY, NATHANIEL L JR | 02/20/00
LOS ANGELES, CA
JACKSON, DARLENE D | 02/20/00
WORDEN, IL
LUCAS, TIMOTHY P | 02/20/00
MOUNT CLEMENS, MI
MATTHEW, STEPHEN M | 02/20/00
FORT SMITH, AR
MILLS, M STEPHEN | 02/20/00
GROVE CITY, OH
MOORE, JOSEPH T | 02/20/00
VANDALIA, IL
REYES, LUCIO A | 02/20/00
EL PASO, TX
SARACO, VICENTE O | 02/20/00
BROOKLYN, NY
STEINER, JEAN MARIE | 02/20/00
NEWTOWN, PA
TAYLOR, KATHLEEN D | 02/20/00
FORT WORTH, TX
WAGONER, IRA J | 02/20/00
FOSTER CITY, CA

Dated: February 2, 2000.
Kathy Pettit,
Acting Director, Health Care Administrative Sanctions, Office of Inspector General.

[FR Doc. 00-3951 Filed 2-17-00; 8:45 am]

BILLING CODE 4150-04-P